ENVIRONMENTAL PROTECTION AGENCY

[OPP-2002-0049; FRL-7302-5]

Rodenticides; Availability of Preliminary Comparative Ecological Assessment; Reopening of Comment Period

AGENCY: Environmental Protection Agency (EPA).

ACTION: Notice.

SUMMARY: EPA issued a notice in the Federal Register of January 29, 2003, concerning availability and public comment period on the Preliminary Comparative Ecological Assessment document for nine rodenticides, which included those addressed in the Reregistration Eligibility Decisions (REDs) for the rodenticide cluster (brodifacoum, bromadiolone, bromethalin, chlorophacinone, diphacinone, and zinc phosphide), as well as three other rodenticides, warfarin, difethialone, and cholecalciferol. This document is reopening the comment period for 60 days, from March 31, 2003, to May 30, 2003.

DATES: Comments, identified by docket ID number OPP-2002-0049 must be received on or before May 30, 2003.

ADDRESSES: Comments may be submitted electronically, by mail, or through hand delivery/courier. Follow the detailed instructions as provided in Unit I.C. of the SUPPLEMENTARY INFORMATION of the January 29, 2003 Federal Register document.

FOR FURTHER INFORMATION CONTACT: John W. Pates, Jr., Special Review and Reregistration Division (7508C), Office of Pesticide Programs, Environmental Protection Agency, 1200 Pennsylvania Ave., NW., Washington, DC 20460-0001; telephone number: 703-308-8195; e-mail address: pates.john@epa.gov.

SUPPLEMENTARY INFORMATION:

I. General Information

A. Does this Action Apply to Me?

The Agency included in the Federal Register notice of January 29, 2003 (68 FR 4468) (FRL-7280-6), a list of those who may be potentially affected by this action. If you have questions regarding the applicability of this action to a particular entity, consult the person listed under FOR FURTHER INFORMATION CONTACT.

B. How Can I Get Copies of This Document and Other Related Information?

1. Docket. EPA has established an official public docket for this action under docket identification (ID) number OPP-2003-0049. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. In addition, copies of the preliminary comparative ecological assessment for the nine rodenticides may also be accessed at http://www.epa.gov/pesticides/rodenticidecluster.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

C. How and To Whom Do I Submit Comments?

To submit comments, or access the official public docket, please follow the detailed instructions as provided in Unit I.C. of the Federal Register of the January 29, 2003 document. If you have questions, consult the person listed under FOR FURTHER INFORMATION CONTACT.

II. What Action is EPA Taking?

This document reopens the public comment period established in the Federal Register of January 29, 2003. In that document, EPA announced the availability of the preliminary comparative ecological assessment for nine rodenticides and invited comment on issues directly associated with the nine rodenticides that were included in the assessment. Due to the many requests received for additional time to comment, EPA is hereby reopening the comment period, which was set to end on March 31, 2003, to May 30, 2003.

List of Subjects

Environmental protection, Pesticides and pests.

Dated: April 8, 2003.
Lois A. Rossi,
Director, Special Review and Reregistration Division, Office of Pesticide Programs.

[FR Doc. 03-10070 Filed 4-22-03; 8:45 am]

BILLING CODE 6560-50-S

[FEDREG]